UNITED STATES INSTITUTE OF PEACE

Sunshine Act; Meeting

Date/Time: Thursday, September 19, 2002, 9:30 a.m.-5:30 p.m.

Location: 1200 17th Street, NW., Suite 200, Washington, DC 20036-3011.

Status: Open Session—Portions may be closed pursuant to subsection (c) of section 552(b) of Title 5, United States Code, as provided in subsection 1706(h)(3) of the United States Institute of Peace Act, Public Law 98-525.

Agenda: September 2002 Board Meeting; Approval of Minutes of the One Hundred Fifth Meeting (June 20-21, 2002) of the Board of Directors; Chairman's Report; President's Report; Committee Reports; Fiscal Years 2003 and 2004 Budget Review; Review of Unsolicited and Out-of-Cycle Grant Applications; Other General Issues.

Contact: Mr. John Brinkley, Director, Office of Public Outreach, Telephone: (202) 457-1700.

Dated: August 29, 2002.
Harriet Hentges,
Executive Vice President, United States Institute of Peace.

[FR Doc. 02-22559 Filed 8-29-02; 4:06 pm]

BILLING CODE 6820-AR-M